NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 2, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-022

1. Applicant: Mahlon C. Kennicutt, II, Department of Oceanography, Rm. 608 Eller Oceanography & Meteorology Bldg., 3146 Texas A&M University, College Station. TX 77843-3146.

Activity for Which Permit is Requested

Take and Enter Antarctic Specially Protected Areas. The applicant plans to enter ASPA158-Hut Point, ASPA 122-Arrival Heights, ASPA 157-Backdoor Bay, Cape Royds, Turtle Rock, and Bratina Island to collect soil samples and take permafrost measurements. These sites are specifically targeted because of the nature of their geology, climatic influences, and topography. Two sites will be sampled as reference controls (Cape Royds-ASPA 157 and Bratina Island) for the study of temporal and spatial scales of various types of disturbances in and around McMurdo Station. The other sites (Arrival Heights-ASPA 122 and Hut Point-ASPA 158), have been sampled in past field seasons and are slated to be sampled as part of the ongoing environmental monitoring program.

Location

ASPA158-Hut Point, ASPA 122-Arrival Heights, ASPA 157-Backdoor Bay, Cape Royds, Turtle Rock, and Bratina Island.

Dates

December 12, 2012 to December 31, 2012.

Permit Application: 2013-023

Applicant: Diana H. Wall, Natural Resource Ecology Laboratory, Dept. 1499, Colorado State University, Fort Collins, CO 80526-1499.

Activity for Which Permit is Requested

Enter Antarctic Specially Protected Areas and Import into the USA. The applicant plans to enter ASPA 116-New College Valley, Cape Bird, ASPA 121-Cape Royds, and ASPA 124-Cape Crozier to collect soils and associated terrestrial invertebrates found in ornithogenic soils from penguin rookeries. The intent of the survey is to describe suitable habitats in ornithogenic soils of Ross Island and to compare these habitats with those identified in the Dry Valleys.

Location

ASPA 116-New College Valley, Cape Bird, ASPA 121-Cape Royds, and ASPA 124-Cape Crozier.

Dates

January 1, 2012 to February 25, 2012.

Nadene G. Kennedy,
Permit Officer, Office of Polar Programs.

[FR Doc. 2012-24241 Filed 10-2-12; 8:45 am]

BILLING CODE 7555-01-P